DEPARTMENT OF ENERGY

Federal Energy Regulatory Commission

[Docket No. EC03-114-001, et al.]

Connecticut Valley Electric Company, Inc., et al.; Electric Rate and Corporate Filings

June 10, 2004.

The following filings have been made with the Commission. The filings are listed in ascending order within each docket classification.

1. Connecticut Valley Electric Company Inc., Public Service Company of New Hampshire, Central Vermont Public Service Corporation

[Docket No. EC03-114-001]

Take notice that on June 3, 2004, Central Vermont Public Service Corporation (CVPS) and Connecticut Valley Electric Company Inc. (CVEC) tendered for filing an application for a supplemental order in this proceeding to authorize the transfer of $89,167 of transmission facilities from CVEC to CVPS.

CVPS and CVEC state that they have served copies of the application on the Vermont Public Service Board and on the New Hampshire Public Utilities Commission.

Comment Date: June 24, 2004.

2. MxEnergy Electric Inc.

[Docket Nos. EC04-116-000 and ER04-170-003]

Take notice that on June 4, 2004, MxEnergy Electric Inc. (MxEnergy) filed an application under section 203 of the Federal Power Act requesting Commission authorization for the transfer of up to 30 percent of the indirect upstream ownership interests in MxEnergy to one or more individuals or private equity funds. MxEnergy has requested confidential treatment of the contents of Exhibit I to the section 203 application. In addition, MxEnergy filed a notice of change in status in the above-referenced rate docket with respect to the change in the indirect upstream ownership of MxEnergy that will be effected by the transaction.

Comment Date: June 25, 2004.

3. Delmarva Power & Light Company

[Docket No. EC04-117-000]

Take notice that, on June 4, 2004, Delmarva Power & Light Company (Delmarva) tendered for filing, pursuant to section 203 of the Federal Power Act and part 33 of the Commission's regulations, a request for Commission authorization for the transfer of material and equipment related to the Cartanza substation from the City of Dover, Delaware to Delmarva.

Delmarva states that copies of the filing were served on the Delaware Public Service Commission, the Maryland Public Service Commission, the New Jersey Board of Public Utilities, the Virginia State Corporation Commission, the District of Columbia Public Service Commission and the Securities and Exchange Commission.

Comment Date: June 25, 2004.

4. Brooklyn Navy Yard Cogeneration Partners, L.P.

[Docket Nos. EG04-75-000]

On June 1, 2004, Brooklyn Navy Yard Cogeneration Partners, L.P. (Applicant) filed with the Federal Energy Regulatory Commission (Commission) an application for redetermination of exempt wholesale generator status pursuant to part 365 of the Commission's regulations.

Applicant states that it owns a 315 MW (net) topping-cycle cogeneration facility fueled primarily by natural gas, located within Building 41 Powerhouse at the Brooklyn Navy Yard and sells all of its output at wholesale to (1) the Consolidated Edison Company of New York, Inc., (2) Brooklyn Yard Development Corporation; and (3) Tyche Power Marketing LLC.

Comment Date: June 22, 2004.

5. DPL Energy, LLC

[Docket No. EG04-76-000]

Take notice that on June 7, 2004, DPL Energy, LLC (DPL Energy) filed with the Federal Energy Regulatory Commission an application for determination of exempt wholesale generator status pursuant to part 365 of the Commission's Regulations.

DPL Energy states that it is a limited liability company, organized under the laws of the State of Ohio, and is a wholly-owned subsidiary of DPL, Inc. DPL Energy further states that it is in the business of owning and operating four merchant electric generation facilities located in Ohio and Indiana, with a combined summer rating of 1114 megawatts.

Comment Date: June 28, 2004.

6. New England Power Company

[Docket No. ER03-793-002]

Take notice that on June 7, 2004, New England Power Company submitted a filing in compliance with the Commission's order issued May 7, 2004, in Docket No. ER03-793-001. New England Power Company, 107 FERC ¶ 61,127 (2004).

Comment Date: June 28, 2004.

7. New York Independent System Operator, Inc.

[Docket Nos. ER04-230-005]

Take notice that on June 7, 2004, New York Independent System Operator, Inc. (NYISO) filed revised tariff sheets in compliance with the Commission's order issued May 7, 2004, in Docket Nos. ER04-230-002 and ER04-230-004.

NYISO states that copies of this filing are being served all parties designated on the official service list maintained by the Secretary of the Commission in this proceeding. NYISO states that it is also serving a copy of this filing on the New York State Public Service Commission and the electric utility regulatory agencies in New Jersey and Pennsylvania.

Comment Date: June 28, 2004.

8. Midwest Independent Transmission System Operator, Inc.

[Docket No. ER04-656-001]

Take notice that on June 7, 2004, Midwest Independent Transmission System Operator, Inc. (Midwest ISO) submitted for filing a response clarifying its intentions concerning the cancellation of various Service Agreements under the Midwest ISO Joint Open Access Transmission Tariff pursuant to the Commission's May 7, 2004, Order Docket No. ER04-656-000.

Midwest ISO requests waiver of the service requirements set for in 18 CFR 385.2010 and in rule 602(d) of the Commission's rules of practice and procedure, 18 CFR 385.602(d).

Midwest ISO states that it has served a copy of this filing electronically, with attachments, upon all Midwest ISO Members, Member representatives of Transmission Owners and Non-Transmission Owners, the Midwest ISO Advisory Committee participants, as well as all state commission within the region. Midwest ISO further states that the filing has been posted electronically on the Midwest ISO's Web site at http://www.midwestiso.org. under the heading “Filings to FER” for other interested parties in this matter and that it will provide hard copies upon request.

Comment Date: June 28, 2004.

9. Public Service Company of New Mexico

[Docket No. ER04-668-001]

Take notice that on June 8, 2004, Public Service Company of New Mexico (PNM) submitted for filing an amendment to its March 24, 2004, filing in Docket No. ER04-668-000 response to a Commission letter issued May 14, 2004, in Docket No. ER04-668-000, notifying PNM that its original filing was deficient. PNM requests an effective date of June 9, 2004.

PNM states that copies of this filing have been served on all customers under PNM's tariff, the New Mexico Public Regulation Commission and the New Mexico Attorney General.

Comment Date: June 29, 2004.

10. PJM Interconnection, L.L.C. Commonwealth Edison Company

[Docket No. ER04-718-004]

Take notice that on June 8, 2004, Commonwealth Edison Company (ComEd) submitted for filing a substitute Financial Hold Harmless Service Agreement under PJM Interconnection, L.L.C.'s Open Access Transmission Tariff in compliance with the Commission's Order issued April 27, 2004, in Docket No. ER04-375-002, et al., 107 FERC ¶ 61,087.

ComEd states that copies of the filing were served upon each person on the Commission's official service list in Docket No. ER04-718.

Comment Date: June 29, 2004.

11. Public Service Company of New Mexico

[Docket No. ER04-760-000]

Take notice that on June 8, 2004, Public Service Company of New Mexico, (PNM) submitted for filing a Notice of Withdrawal. PNM states that it seeks to withdraw the tariff sheets filed on April 26, 2004, in Docket No. ER04-760-000 and to terminate the proceeding.

Comment Date: June 29, 2004.

12. Calpine Newark, LLC

[Docket No. ER04-831-001]

Take notice that on June 7, 2004, Calpine Newark, LLC (Newark) filed an amendment to its May 11, 2004, filing to include a tariff provision prohibiting power sales to affiliated public utilities with a franchised electric service territory and to reflect the effective date of FERC Rate Schedule No.1. Newark requests waiver of the 60-day notice requirements to permit an effective date of May 24, 2004.

Comment Date: June 28, 2004.

13. Calpine Parlin, LLC

[Docket No. ER04-832-001]

Take notice that on June 7, 2004, Calpine Parlin, LLC (Parlin) filed an amendment to its May 11, 2004, filing to include a tariff provision prohibiting power sales to affiliated public utilities with a franchised electric service territory and to reflect the effective date of FERC Rate Schedule No. 2. Parlin requests waiver of the 60-day notice requirements to permit waiver of the 60-day notice requirements to permit an effective date of May 24, 2004.

Comment Date: June 28, 2004.

14. Central Hudson Gas & Electric Corporation

[Docket No. ER04-918-000 ]

Take notice that on June 7, 2004, Central Hudson Gas & Electric Corporation (Central Hudson) pursuant to 18 CFR 35.15 and 131.53, submitted for filing a Notice of Cancellation of its Rate Schedule FERC No. 61, accepted by the Commission in Docket No. ER80-589. Central Hudson states that the contract was terminated in accordance with its terms. Central Hudson requests an effective date of June 1, 2004.

Central Hudson states that a copy of this filing has been served on Northeast Utilities Service Company and the New York Public Service Commission.

Comment Date: June 28, 2004.

15. Central Maine Power Company

[Docket No. ER04-919-000]

Take notice that on June 8, 2004, Central Maine Power Company (CMP) tendered for filing a Notice of Cancellation of the unsigned Agreement for Lease of Transmission Line between Central Maine Power Company and Androscoggin Reservoir Company, previously designated as Rate Schedule FERC No. 202. CMP states that this submission is made in response to the Commission's Order issued May 20, 2004, in Docket No. ER03-1307-001. CMP requests an effective date of September 5, 2003.

CMP states that copies of this filing have been served on the parties.

Comment Date: June 29, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1376 Filed 6-17-04; 8:45 am]

BILLING CODE 6717-01-P